DEPARTMENT OF TRANSPORTATION

Federal Aviation Administration

14 CFR Part 71

[Docket No. FAA-2024-0157; Airspace Docket No. 23-ASO-32]

RIN 2120-AA66

Establishment and Amendment of Multiple United States Area Navigation (RNAV) Routes; and Revocation of RNAV Route T-204; Eastern United States

AGENCY: Federal Aviation Administration (FAA), DOT.

ACTION: Final rule.

SUMMARY: This action establishes United States Area Navigation (RNAV) Routes T-489, T-491, T-493, and T-495; amends RNAV Routes T-210, T-336, T-341, and T-349; and revokes RNAV Route T-204 in the eastern United States. This action supports FAA Next Generation Air Transportation System (NextGen) efforts to provide a modern RNAV route structure to improve the safety and efficiency of the National Airspace System (NAS).

DATES: Effective date 0901 UTC, October 31, 2024. The Director of the Federal Register approves this incorporation by reference action under 1 CFR part 51, subject to the annual revision of FAA Order JO 7400.11 and publication of conforming amendments.

ADDRESSES: A copy of the Notice of Proposed Rulemaking (NPRM), all comments received, this final rule, and all background material may be viewed online at www.regulations.gov using the FAA Docket number. Electronic retrieval help and guidelines are available on the website. It is available 24 hours each day, 365 days each year.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Brian Vidis, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the Air Traffic Service (ATS) route structure as necessary to preserve the safe and efficient flow of air traffic within the NAS.

History

The FAA published a NPRM for Docket No. FAA-2024-0157 in the Federal Register (89 FR 14602; February 28, 2024), proposing to establish United States RNAV Routes T-489, T-491, T-493, and T-495; amending RNAV Routes T-210, T-336, T-341, and T-349; and revoking RNAV Route T-204 in the eastern United States. Interested parties were invited to participate in this rulemaking effort by submitting written comments on the proposal to the FAA. No comments were received.

Differences From the NPRM

Subsequent to publication of the NPRM, the FAA identified that RNAV Route Q-102 is a non-regulatory air traffic service route that transits international airspace, and which are modified outside of the regulatory process. The FAA removes the amendment of RNAV Route Q-102 from this action.

The FAA inadvertently omitted from the proposed changes that numerous route points would be removed from the route descriptions of RNAV Routes T-210 and T-336 due to those segments forming a turn of less than one degree. The route points remain depicted on aeronautical charts for reference but are removed from the description of each route. The MRUTT, FL, waypoint (WP) and the GUANO, FL, Fix are removed from the description of RNAV Route T-210. The FUTSY, FL, WP; OMMNI, FL, WP; VIZTA, FL, WP; and YONMA, FL, Fix are removed from the description of RNAV Route T-336. This final rule corrects these omissions.

Incorporation by Reference

United States Area Navigation routes are published in paragraph 6011 of FAA Order JO 7400.11, Airspace Designations and Reporting Points, which is incorporated by reference in 14 CFR 71.1 on an annual basis. This document amends the current version of that order, FAA Order JO 7400.11H, dated August 11, 2023, and effective September 15, 2023. FAA Order JO 7400.11H is publicly available as listed in the ADDRESSES section of this document. These amendments will be published in the next update to FAA Order JO 7400.11.

FAA Order JO 7400.11H lists Class A, B, C, D, and E airspace areas, air traffic service routes, and reporting points.

The Rule

This action amends 14 CFR part 71 by establishing RNAV Routes T-489, T-491, T-493, and T-495; amending RNAV Routes T-210, T-336, T-341, and T-349; and revoking RNAV Route T-204 in the eastern United States. This action supports the FAA's NextGen efforts to provide a modern RNAV route structure to improve the safety and efficiency of the NAS. The amendments are described below.

T-204: Prior to this final rule, T-204 extended between the Taylor, FL (TAY), Very High Frequency Omnidirectional Range/Tactical Air Navigation (VORTAC) and the Brunswick, GA (SSI), VORTAC. The FAA removes the route in its entirety.

T-210: Prior to this final rule, T-210 extended between the HADDE, FL, Fix, and the VARZE, FL, WP. The FAA extends T-210 to the west between the HADDE Fix and the MILLP, FL, Fix and to the south between the VARZE Fix and the WEZER, FL, WP. The route extension to the west provides RNAV connectivity to the Marianna, FL, area, and the route extension to the south provides more efficient air traffic control clearances in the Lakeland, FL, area. Additionally, the MRUTT, FL, WP and GUANO, FL, Fix are removed from the route description as they form a turn of less than one degree. As amended, the route extends between the MILLP Fix and the WEZER WP.

T-336: Prior to this final rule, T-336 extended between the TROYR, FL, WP and the VALKA, FL, Fix. The FAA extends T-336 to the northwest between the MILLP, FL, Fix and the TROYR WP. The route overlays VOR Federal Airway V-521 between the Marianna, FL (MAI), VORTAC and the Cross City, FL (CTY), VORTAC. The route extension provides RNAV connectivity to the Marianna, FL, area. The FUTSY, FL, WP; OMMNI, FL, WP; VIZTA, FL, WP; and YONMA, FL, Fix are removed from the route description as they form a turn of less than one degree. Additionally, the FAA changes the TROYR WP name to the CCITY, FL, WP. As amended, the route extends between the MILLP Fix and the VALKA Fix.

T-341: Prior to this final rule, T-341 extended between the MEAGN, FL, WP and the MARQO, FL, WP. The FAA extends T-341 to the northeast between the MARQO WP and the FLRNS, SC, Fix. The route extension provides RNAV connectivity to the Florence, SC, area. Additionally, the FAA adds the FEBRO, FL, WP between the CUSEK, FL, WP and the YELLZ, FL, WP to provide connectivity to RNAV Routes T-343 and T-353, and replaces the WHOOU, FL, WP with the WALEE, FL, WP to provide connectivity to RNAV Route T-207. Lastly, the FAA removes the DULFN, FL, WP from the route description as it does not represent a turn point of one degree or more. As amended, the route extends between the MEAGN WP and the FLRNS Fix.

T-349: Prior to this final rule, T-349 extended between the VARZE, FL, WP and the TROYR, FL, WP. The FAA extends T-349 to the southeast between the VARZE WP and the NEWER, FL, Fix; and to the northwest between the TROYR WP and the LYFEE, AL, WP. The route overlays VOR Federal Airway V-7 between the Wiregrass, AL (RRS), VORTAC and the Cross City, FL (CTY), VORTAC and provides RNAV connectivity between the Fort Lauderdale, FL and the Dothan, AL, areas. Additionally, the FAA removes the MILOW, FL, WP and the MURDE, FL, WP from the route description as those route points do not represent a turn point of one degree or more. Lastly, the FAA changes the TROYR WP name to the CCITY, FL, WP. As amended, the route extends between the NEWER Fix and the LYFEE WP.

T-489: T-489 is a new RNAV route that extends between the BOLTS, FL, WP and the PCANN, GA, WP. The new route overlays a portion of VOR Federal Airway V-35 between the ATTAK, FL, Fix and the PECAN, GA (PZD), VOR/Distance Measuring Equipment (VOR/DME) and provides RNAV routing between the Tampa, FL, area and the Albany, GA, area.

T-491: T-491 is a new RNAV route that extends between the BOLTS, FL, WP and the SIROC, GA, WP. The new route provides RNAV connectivity between the Tampa, FL, area and the Brunswick, GA, area.

T-493: T-493 is a new RNAV route that extends between the BOLTS, FL, WP and the DOOLY, GA, WP. The new route provides RNAV connectivity between the Tampa, FL, area and the Macon, GA, area.

T-495: T-495 is a new RNAV route that extends between the BOLTS, FL, WP, and the BWDEN, FL, Fix. The new route provides RNAV connectivity between the Tampa, FL, area and the Tallahassee, FL, area.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this airspace action of establishing United States RNAV Routes T-489, T-491, T-493, and T-495; amending RNAV Routes T-210, T-336, T-341, and T-349; and revoking RNAV Route T-204 qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5b, which categorically excludes from further environmental impact review “Actions regarding establishment of jet routes and Federal airways (see 14 CFR 71.15, Designation of jet routes and VOR Federal airways) . . .”. As such, this action is not expected to result in any potentially significant environmental impacts. In accordance with FAA Order 1050.1F, paragraph 5-2 regarding Extraordinary Circumstances, the FAA has reviewed this action for factors and circumstances in which a normally categorically excluded action may have a significant environmental impact requiring further analysis. Accordingly, the FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 6011 United States Area Navigation Routes.

* * * * *

T-204 [Removed]

* * * * *

T-210 MILLP, FL to WEZER, FL [Amended]
MILLP, FL | FIX | (Lat. 30°47′10.19″ N, long. 085°07′27.41″ W)
GRNVL, FL | FIX | (Lat. 30°33′04.80″ N, long. 083°46′58.59″ W)
HADDE, FL | FIX | (Lat. 30°31′54.46″ N, long. 083°13′50.21″ W)
MISSM, FL | WP | (Lat. 30°27′28.15″ N, long. 082°36′32.24″ W)
OHLEE, FL | WP | (Lat. 30°16′06.04″ N, long. 082°06′32.53″ W)
MMKAY, FL | WP | (Lat. 29°41′55.42″ N, long. 081°26′49.15″ W)
KIZER, FL | FIX | (Lat. 28°55′26.00″ N, long. 081°22′17.83″ W)
EMSEE, FL | WP | (Lat. 28°50′43.72″ N, long. 081°32′47.03″ W)
DAIYL, FL | WP | (Lat. 28°49′10.74″ N, long. 081°41′29.68″ W)
AKOJO, FL | WP | (Lat. 28°45′44.01″ N, long. 081°43′31.54″ W)
PUNQU, FL | WP | (Lat. 28°34′33.65″ N, long. 081°49′22.43″ W)
VARZE, FL | WP | (Lat. 28°16′25.85″ N, long. 082°01′44.51″ W)
WEZER, FL | WP | (Lat. 28°02′26.59″ N, long. 082°02′39.60″ W)

* * * * *

T-336 MILLP, FL to VALKA, FL [Amended]
MILLP, FL | FIX | (Lat. 30°47′10.19″ N, long. 085°07′27.41″ W)
TERES, FL | FIX | (Lat. 29°56′07.76″ N, long. 084°20′08.51″ W)
HEVVN, FL | FIX | (Lat. 29°49′19.11″ N, long. 083°53′42.89″ W)
CCITY, FL | WP | (Lat. 29°34′20.92″ N, long. 083°01′52.68″ W)
PUNQU, FL | WP | (Lat. 28°34′33.65″ N, long. 081°49′22.43″ W)
YOJIX, FL | FIX | (Lat. 28°02′44.04″ N, long. 081°33′45.34″ W)
ODDEL, FL | FIX | (Lat. 28°05′45.51″ N, long. 081°10′10.24″ W)
DEARY, FL | FIX | (Lat. 28°06′02.53″ N, long. 080°54′51.40″ W)
VALKA, FL | FIX | (Lat. 27°55′06.06″ N, long. 080°34′17.17″ W)

* * * * *

T-341 MEAGN, FL to FLRNS, SC [Amended]
MEAGN, FL | WP | (Lat. 26°14′17.20″ N, long. 080°47′23.64″ W)
ZAGPO, FL | WP | (Lat. 26°23′47.41″ N, long. 080°57′25.83″ W)
CUSEK, FL | WP | (Lat. 26°51′38.79″ N, long. 081°23′17.37″ W)
FEBRO, FL | WP | (Lat. 27°37′02.08″ N, long. 081°47′07.68″ W)
YELLZ, FL | WP | (Lat. 27°51′36.18″ N, long. 081°56′34.16″ W)
WEZER, FL | WP | (Lat. 28°02′26.59″ N, long. 082°02′39.60″ W)
VARZE, FL | WP | (Lat. 28°16′25.85″ N, long. 082°01′44.51″ W)
OMMNI, FL | WP | (Lat. 28°51′29.29″ N, long. 082°09′41.75″ W)
WALEE, FL | WP | (Lat. 29°41′36.05″ N, long. 082°14′07.07″ W)
MARQO, FL | WP | (Lat. 30°30′53.57″ N, long. 082°32′45.62″ W)
TWEST, GA | FIX | (Lat. 32°05′45.00″ N, long. 082°03′11.00″ W)
DURBE, SC | WP | (Lat. 33°00′44.75″ N, long. 081°17′32.69″ W)
VANNC, SC | WP | (Lat. 33°28′29.84″ N, long. 080°26′54.65″ W)
FLRNS, SC | FIX | (Lat. 34°13′58.11″ N, long. 079°39′25.95″ W)

* * * * *

T-349 NEWER, FL to LYFEE, AL [Amended]
NEWER, FL | FIX | (Lat. 26°13′54.98″ N, long. 080°37′05.49″ W)
GILBI, FL | FIX | (Lat. 26°24′31.77″ N, long. 080°43′44.46″ W)
KNRAD, FL | FIX | (Lat. 26°37′16.45″ N, long. 081°09′54.74″ W)
CUSEK, FL | WP | (Lat. 26°51′38.79″ N, long. 081°23′17.37″ W)
QUNCY, FL | FIX | (Lat. 27°02′13.01″ N, long. 081°38′18.21″ W)
FEBRO, FL | WP | (Lat. 27°37′02.08″ N, long. 081°47′07.68″ W)
YELLZ, FL | WP | (Lat. 27°51′36.18″ N, long. 081°56′34.16″ W)
WEZER, FL | WP | (Lat. 28°02′26.59″ N, long. 082°02′39.60″ W)
VARZE, FL | WP | (Lat. 28°16′25.85″ N, long. 082°01′44.51″ W)
CCITY, FL | WP | (Lat. 29°34′20.92″ N, long. 083°01′52.68″ W)
LYFEE, AL | WP | (Lat. 31°17′05.04″ N, long. 085°25′52.67″ W)

* * * * *

T-489 BOLTS, FL to PCANN, GA [New]
BOLTS, FL | WP | (Lat. 28°11′15.93″ N, long. 082°52′21.14″ W)
ATTAK, FL | FIX | (Lat. 28°36′46.38″ N, long. 082°49′30.78″ W)
NESST, FL | FIX | (Lat. 28°59′10.29″ N, long. 082°54′02.10″ W)
CEDDI, FL | FIX | (Lat. 29°17′10.66″ N, long. 082°58′22.44″ W)
CCITY, FL | WP | (Lat. 29°34′20.92″ N, long. 083°01′52.68″ W)
GRNVL, FL | FIX | (Lat. 30°33′04.80″ N, long. 083°46′58.59″ W)
PCANN, GA | WP | (Lat. 31°39′18.97″ N, long. 084°17′35.80″ W)

T-491 BOLTS, FL to SIROC, GA [New]
BOLTS, FL | WP | (Lat. 28°11′15.93″ N, long. 082°52′21.14″ W)
EXWAY, FL | FIX | (Lat. 28°54′18.24″ N, long. 082°30′44.53″ W)
WALEE, FL | WP | (Lat. 29°41′36.05″ N, long. 082°14′07.07″ W)
OHLEE, FL | WP | (Lat. 30°16′06.04″ N, long. 082°06′32.53″ W)
SIROC, GA | WP | (Lat. 31°03′02.32″ N, long. 081°26′45.89″ W)

T-493 BOLTS, FL to DOOLY, GA [New]
BOLTS, FL | WP | (Lat. 28°11′15.93″ N, long. 082°52′21.14″ W)
CHAAZ, FL | FIX | (Lat. 28°43′28.00″ N, long. 082°36′13.00″ W)
ORATE, FL | FIX | (Lat. 29°20′25.53″ N, long. 082°52′48.84″ W)
CCITY, FL | WP | (Lat. 29°34′20.92″ N, long. 083°01′52.68″ W)
VLDST, GA | FIX | (Lat. 30°46′50.17″ N, long. 083°16′47.21″ W)
TIFFT, GA | FIX | (Lat. 31°25′42.59″ N, long. 083°29′19.75″ W)
DOOLY, GA | WP | (Lat. 32°12′48.02″ N, long. 083°29′50.66″ W)

T-495 BOLTS, FL to BWDEN, FL [New]
BOLTS, FL | WP | (Lat. 28°11′15.93″ N, long. 082°52′21.14″ W)
ATTAK, FL | FIX | (Lat. 28°36′46.38″ N, long. 082°49′30.78″ W)
NESST, FL | FIX | (Lat. 28°59′10.29″ N, long. 082°54′02.10″ W)
DEANR, FL | WP | (Lat. 29°15′30.40″ N, long. 083°03′30.24″ W)
BWDEN, FL | FIX | (Lat. 30°33′21.90″ N, long. 084°22′25.85″ W)

* * * * *

Issued in Washington, DC, on August 7, 2024.
Frank Lias,
Manager, Rules and Regulations Group.

[FR Doc. 2024-17867 Filed 8-14-24; 8:45 am]

BILLING CODE 4910-13-P